DEPARTMENT OF THE INTERIOR

Fish and Wildlife Service

[FWS-R2-ES-2014-N233; FXES11130200000C2-112-FF02ENEH00]

Endangered and Threatened Wildlife and Plants; Sonoran Pronghorn Draft Recovery Plan

AGENCY: Fish and Wildlife Service, Interior.

ACTION: Notice of availability; request for comment.

SUMMARY: We, the Fish and Wildlife Service (Service), announce the availability of our draft recovery plan, second revision, for the Sonoran pronghorn, which is listed as endangered under the Endangered Species Act of 1973, as amended (Act). This pronghorn is currently found in southwestern Arizona and northwestern Sonora, Mexico. The draft recovery plan includes specific recovery objectives and criteria to be met to enable us to remove this species from the list of endangered and threatened wildlife and plants. We request review and comment on this plan from local, State, and Federal agencies; Tribes; and the public. We will also accept any new information on the status of the Sonoran pronghorn throughout its range to assist in finalizing the recovery plan.

DATES: To ensure consideration, we must receive written comments on or before August 3, 2015. However, we will accept information about any species at any time.

ADDRESSES: If you wish to review the draft recovery plan, you may obtain a copy by any one of the following methods:

Internet: Access the file at www.fws.gov/southwest/es/Documents/SpeciesDocs/SonoranPronghorn/SonoranPronghorn_DraftRecoveryPlan_Final_December2014.pdf;

U.S. mail: U.S. Fish and Wildlife Service, 1611 North Second Avenue, Ajo, AZ 85321; or

Telephone: (520) 387-6483.

If you wish to comment on the draft recovery plan, you may submit your comments in writing by any one of the following methods:

• U.S. mail: Sonoran Pronghorn Recovery Coordinator, at the Ajo, AZ, address;

• Hand-delivery: Cabeza Prieta National Wildlife Refuge, at the Ajo, AZ, address;

• Fax: (520) 387-5359; or

• Email: James_Atkinson@fws.gov.

For additional information about submitting comments, see the “Request for Public Comments” section in this notice.

FOR FURTHER INFORMATION CONTACT: James Atkinson, Sonoran Pronghorn Recovery Coordinator, at the above address and phone number, or by email at James_Atkinson@fws.gov.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species. A recovery plan for the Sonoran pronghorn was first completed in 1982 and was then revised in 1998. A supplement and amendment to the 1998 plan was completed in 2002.

Species History

The Sonoran pronghorn subspecies is recognized by a number of Federal, State, and international lists. The subspecies was first included on the first list of endangered species on March 11, 1967 (32 FR 4001), under the Endangered Species Preservation Act of October 15, 1966, a predecessor of the Act. The subspecies is currently listed as an endangered species throughout its range under the Act. The species' current recovery priority number is 3, indicating the subspecies has a high degree of threat and a high potential for recovery.

In addition to the listing under the Act, the pronghorn is listed as endangered in Mexico by the Secretaría de Medio Ambiente y Recursos Naturales, or Federal Ministry of the Environment and Natural Resource (SEMARNAT 2010). This listing is for the entire species and includes all subspecies within Mexico. All subspecies of Antilocapra americana are listed on the Convention on International Trade in Endangered Species of Wild Fauna and Flora, but only populations in Mexico are included (Convention on International Trade in Endangered Species of Wild Flora and Fauna 2014). Sonoran pronghorn in Arizona are also on the Arizona Game and Fish Department's list of “Species of Greatest Conservation Need.”

Pronghorn have slightly curved horns; the males usually have a single prong projecting forward. The horns have a straight bony core and sheaths of fused hairs, which are shed and replaced annually (Hoffmeister 1986). Coat color varies from yellowish to tan, with some white markings, except for black on the top of the nose (Hoffmeister 1986). Pronghorns are the only artiodactyls with pronged horns and horn sheaths that are shed annually (Hoffmeister 1986).

Pronghorn are endemic to western North America (O'Gara 1978) and are placed within the Family Antilocapridae in Order Artiodactyla, the even-toed ungulates. The Family Antilocapridae, found only in North America, contains only one genus, Antilocapra, which in turn contains only one species, the pronghorn. The Sonoran pronghorn is one of four extant subspecies of pronghorn (Stephen et al. 2005). Sonoran pronghorn historically occurred throughout most of southwestern Arizona, northwestern Sonora, and portions of southeastern California and northeastern Baja California. Four wild populations of the Sonoran pronghorn are now extant and occupy about 8 percent of their historical range; two of these occur in southwestern Arizona and two occur in northwestern Sonora. Threats to the species include barriers (e.g., highways, fences, railroads, development, canals) that limit distribution and movement; dewatering of rivers; loss, fragmentation, and degradation of habitat; human-caused disturbance; and periods of prolonged drought.

The recovery strategy is to secure a sufficient number of Sonoran pronghorn populations that are viable under appropriate management scenarios within select areas throughout their historical range. In recognition of the binational distribution of the species, and the unique challenges and opportunities this presents, two conservation units (CU) for the species have been designated, one in the United States and one in Mexico. The U.S. CU is located in Arizona and California and includes the historical range of Sonoran pronghorn in the United States. The Mexico CU includes the historical range of Sonoran pronghorn in Mexico. Within these CUs there are management units (MU), including the Cabeza, Arizona Reintroduction, and California Reintroduction MUs in Arizona and California, and the Pinacate, Quitovac, and Sonora Reintroduction MUs in Sonora.

Recovery Plan Goals

The recovery goal is to conserve and protect the Sonoran pronghorn and its habitat so that its long-term survival is secured, and it can be removed from the list of threatened and endangered species (delisted). To achieve this goal, this draft recovery plan identifies the following objectives:

1. Ensure multiple viable populations of Sonoran pronghorn rangewide.

2. Ensure that there is adequate quantity, quality, and connectivity of Sonoran pronghorn habitat to support populations.

3. Minimize and mitigate the effects of human disturbance on Sonoran pronghorn.

4. Identify and address priority monitoring needs.

5. Identify and address priority research needs.

6. Maintain existing partnerships and develop new partnerships to support Sonoran pronghorn recovery.

7. Secure adequate funding to implement recovery actions for Sonoran pronghorn.

8. Practice adaptive management, in which recovery is monitored and recovery tasks are revised by the Service in coordination with the Sonoran Pronghorn Recovery Team as new information becomes available.

The draft recovery plan contains recovery criteria based on increasing and protecting current populations and establishing at least one new population, as well as reducing threats to the species. To achieve recovery criteria, various management actions are needed. When the status of Sonoran pronghorn meets these criteria, the species will no longer meet the conditions of being endangered throughout a significant portion of its range and will no longer warrant listing.

Request for Public Comments

Section 4(f) of the Act requires us to provide public notice and an opportunity for public review and comment during recovery plan development. It is also our policy to request peer review of recovery plans (July 1, 1994; 59 FR 34270). We will summarize and respond to the issues raised by the public and peer reviewers and post our responses on our Web site. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan. In particular, we are interested in additional information regarding the current threats to the species and the costs associated with implementing the recommended recovery actions.

Before we approve our final recovery plan, we will consider all comments we receive by the date specified in DATES. Methods of submitting comments are in the ADDRESSES section.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the U.S. Fish and Wildlife Service, Branch of Recovery (see FOR FURTHER INFORMATION CONTACT section).

Authority

We developed our draft recovery plan under the authority of section 4(f) of the Act, 16 U.S.C. 1533(f). We publish this notice under section 4(f) of the Endangered Species Act of 1973, as amended (16 U.S.C. 1531 et seq.).

Dated: May 20, 2015.
Joy E. Nicholopoulos,
Acting Regional Director, Southwest Region, Fish and Wildlife Service.

[FR Doc. 2015-16292 Filed 7-1-15; 8:45 am]

BILLING CODE 4310-55-P